GENERAL SERVICES ADMINISTRATION

48 CFR Part 552

[GSAR Case 2022-G521; Docket No. GSA-GSAR-2023-0010; Sequence No. 1]

General Services Administration Acquisition Regulation (GSAR); Personal Identity Verification Requirements Clause Reference

AGENCY: Office of Acquisition Policy, General Services Administration (GSA).

ACTION: Final rule; technical amendment.

SUMMARY: The General Services Administration is issuing this final rule to make a technical amendment to the General Services Administration Acquisition Regulation. A policy referenced within a clause covering personal identification verification requirements has an updated number and title.

DATES: Effective April 26, 2023.

FOR FURTHER INFORMATION CONTACT: For clarification of content, contact Ms. Kathryn Carlson and Mr. Clarence Harrison at GSARPolicy@gsa.gov or 202-227-7051. For information pertaining to status or publication schedules, contact the Regulatory Secretariat Division at GSARegSec@gsa.gov or 202-501-4755. Please cite GSAR Case 2022-G521.

SUPPLEMENTARY INFORMATION:

I. Background

The General Services Administration (GSA) conducts routine reviews of its acquisition regulations to identify outdated content and to ensure GSA policy referenced within the General Services Administration Acquisition Regulation (GSAR) is current. GSA discovered that the policy referenced in the GSAR clause 552.204-9 Personal Identity Verification Requirements was changed from GSA Order CIO P 2181.1 to GSA Order ADM 2181.1 in March 2020. The title was also updated from GSA HSPD-12 Personal Identity Verification and Credentialing Handbook to GSA HSPD-12 Personal Identity Verification and Credentialing, and Background Investigations for Contractor Employees. The title update provides better clarity regarding the information contained in the GSA Order.

By updating the policy referenced in the GSAR clause, this rule ensures contractors are directed to the correct policy.

II. Publication of This Final Rule for Public Comment Is Not Required by Statute

The statute that applies to the publication of the Federal Acquisition Regulation (FAR) is 41 U.S.C. 1707. Subsection (a)(1) of 41 U.S.C. 1707 requires that a procurement policy, regulation, procedure, or form (including an amendment or modification thereof) must be published for public comment if it relates to the expenditure of appropriated funds, and has either a significant effect beyond the internal operating procedures of the agency issuing the policy, regulation, procedure, or form, or has a significant cost or administrative impact on contractors or offerors. This final rule is not required to be published for public comment because the change is technical in nature and makes conforming updates to the title and number of a referenced policy document.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. The Office of Information and Regulatory Affairs (OIRA) in the Office of Management and Budget (OMB) has determined that this rule is not a significant regulatory action and, therefore, is not subject to review under section 6(b) of E.O. 12866, Regulatory Planning and Review, dated September 30, 1993.

IV. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. The General Services Administration will submit a report containing this rule and other required information to the U.S. Senate, the U.S. House of Representatives, and the Comptroller General of the United States. A major rule cannot take effect until 60 days after it is published in the Federal Register. OIRA has determined that this is not a major rule under 5 U.S.C. 804.

V. Regulatory Flexibility Act

The Regulatory Flexibility Act (5 U.S.C. 601 et seq.) does not apply to this rule because an opportunity for public comment is not required to be given for this rule under 41 U.S.C. 1707(a)(1) (see Section II. of this preamble). Accordingly, no regulatory flexibility analysis is required, and none has been prepared.

VI. Paperwork Reduction Act

The Paperwork Reduction Act does not apply because the changes to the GSAR do not impose recordkeeping or information collection requirements, or the collection of information from offerors, contractors, or members of the public that require the approval of the Office of Management and Budget under 44 U.S.C. 3501, et seq.

List of Subjects in 48 CFR Part 552

Government procurement.

Jeffrey A. Koses,
Senior Procurement Executive, Office of Acquisition Policy, Office of Government-wide Policy, General Services Administration.

Therefore, GSA amends 48 CFR part 552 as set forth below:

PART 552—SOLICITATION PROVISIONS AND CONTRACT CLAUSES

1. The authority citation for 48 CFR part 552 continues to read as follows:

Authority: 40 U.S.C. 121(c).

2. Amend section 552.204-9 by revising the section heading, date of the clause, and paragraph (a) to read as follows:

552.204-9 Personal Identity Verification Requirements.

* * * * *

Personal Identity Verification Requirements ([APR 2023])

(a) The Contractor shall comply with GSA personal identity verification requirements, identified in ADM 2181.1 GSA HSPD-12 Personal Identity Verification and Credentialing, and Background Investigations for Contractor Employees, if Contractor employees require access to GSA controlled facilities or information systems to perform contract requirements. The Contractor can find the policy and additional information at https://www.gsa.gov/hspd12.

* * * * *

[FR Doc. 2023-06227 Filed 3-24-23; 8:45 am]

BILLING CODE 6820-61-P